DEPARTMENT OF COMMERCE

National Oceanic and Atmospheric Administration

50 CFR Part 622

[Docket No. 140819686-5999-02; RTID 0648-XD760]

Fisheries of the Caribbean, Gulf of Mexico, and South Atlantic; 2024 Commercial Accountability Measure and Catch Limit Reduction for Gag in the South Atlantic

AGENCY: National Marine Fisheries Service (NMFS), National Oceanic and Atmospheric Administration (NOAA), Commerce.

ACTION: Temporary rule; commercial accountability measure.

SUMMARY: NMFS implements an accountability measure (AM) for the commercial harvest of gag in South Atlantic Federal waters. NMFS has determined that commercial landings of gag exceeded the commercial annual catch limit (ACL) in 2023, and other triggers for the commercial AMs are met. Therefore, NMFS reduces the commercial ACL of gag in the 2024 fishing year by the amount of gag landings that exceeded the 2023 commercial ACL to protect the gag resource from overfishing and continue to allow the recovery of this overfished stock.

DATES: This temporary rule is effective on April 26, 2024.

FOR FURTHER INFORMATION CONTACT: Frank Helies, NMFS Southeast Regional Office, telephone: 727-824-5305, email: frank.helies@noaa.gov.

SUPPLEMENTARY INFORMATION: The snapper-grouper fishery of the South Atlantic includes gag and is managed under the Fishery Management Plan for the Snapper-Grouper Fishery of the South Atlantic Region (FMP). The FMP was prepared by the South Atlantic Fishery Management Council and NMFS, and is implemented by NMFS under the authority of the Magnuson-Stevens Fishery Conservation and Management Act (Magnuson-Stevens Act) by regulations at 50 CFR part 622. All weights in this temporary rule are in gutted weight.

On October 23, 2023, NMFS implemented the final rule for Amendment 53 to the FMP (88 FR 65135, September 21, 2023). Among other measures, Amendment 53 established a rebuilding plan for the gag stock, which is overfished and is included in the most recent Status of U.S. Fisheries Report to Congress (2022). The final rule specified the 2024 commercial ACL for gag at 128,096 pounds (lb) or 58,103 kilograms (kg) [50 CFR 622.190(a)(7)(ii)].

Regulations in § 622.193(c)(1) state the AMs applicable to the commercial harvest of gag. The post-season AMs for the commercial sector state that NMFS will reduce the commercial ACL in the following fishing year by the amount of the commercial ACL overage in the previous year if the following criteria are also met: 1. the combined commercial and recreational ACL specified in § 622.193(c)(3) is exceeded during the same fishing year, and 2. the gag stock is overfished based on the most recent Status of U.S. Fisheries Report to Congress [50 CFR 622.193(c)(1)(ii)].

Also on the effective date of final rule for Amendment 53, NMFS closed the commercial harvest of gag for the remainder of the year because NMFS projected that commercial landings of gag had exceeded the new 2023 commercial ACL of 85,326 lb (38,703 kg) (88 FR 68497, October 4, 2023). Current estimates of commercial landings of gag during 2023 are 150,500 lb (68,266 kg). These preliminary landings exceed the recently implemented commercial ACL for gag by 65,174 lb (29,562 kg). Preliminary landings of gag by the recreational sector in 2023 are 472,321 lb (214,241 kg) and the new 2023 recreational ACL was 90,306 lb (40,962 kg). Therefore, NMFS estimates that 2023 landings of gag exceeded the combined commercial and recreational ACL of 175,632 lb (79,665 kg).

Because the criteria for gag post-season AMs are met, NMFS must reduce the commercial ACL in 2024 by the amount that commercial landings exceeded the commercial ACL during 2023. Therefore, NMFS reduces the commercial ACL for gag in 2024 to 62,922 lb (28,541 kg).

Classification

NMFS issues this action pursuant to section 305(d) of the Magnuson-Stevens Act. This action is required by 50 CFR 622.193(c)(1)(ii), which was issued pursuant to section 304(b) of the Magnuson-Stevens Act, and is exempt from review under Executive Order 12866.

Pursuant to 5 U.S.C. 553(b)(B), there is good cause to waive prior notice and an opportunity for public comment on this action, as notice and comment are unnecessary and contrary to the public interest. Such procedures are unnecessary because the rule that established the commercial ACLs and AMs for gag have already been subject to notice and comment, and all that remains is to notify the public of the reduced commercial ACL for 2024. Such procedures are contrary to the public interest because of the need to protect the gag resource and to provide advance notice to commercial fishermen of the change to the commercial ACL for gag.

Authority: 16 U.S.C. 1801 et seq.

Dated: March 22, 2024.
Everett Wayne Baxter,
Acting Director, Office of Sustainable Fisheries, National Marine Fisheries Service.

[FR Doc. 2024-06534 Filed 3-26-24; 8:45 am]

BILLING CODE 3510-22-P